DEPARTMENT OF THE INTERIOR

Fish and Wildlife Service

[FWS-R9-IA-2011-N159; 96300-1671-0000-P5]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless a Federal permit is issued that allows such activities. Both laws require that we invite public comment before issuing these permits.

DATES: We must receive comments or requests for documents on or before September 8, 2011. We must receive requests for marine mammal permit public hearings, in writing, at the address shown in the ADDRESSES section by September 8, 2011.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, section 10(a)(1)(A) of the Endangered Species Act of 1973, as amended (16 U.S.C. 1531 et seq.), and our regulations in the Code of Federal Regulations (CFR) at 50 CFR 17, and the Marine Mammal Protection Act of 1972, as amended (16 U.S.C. 1361 et seq.), and our regulations in the Code of Federal Regulations (CFR) at 50 CFR 18, require that we invite public comment before final action on these permit applications. Under the MMPA, you may request a hearing on any MMPA application received. If you request a hearing, give specific reasons why a hearing would be appropriate. The holding of such a hearing is at the discretion of the Service Director.

III. Permit Applications

A. Endangered Species

Applicant: GTWT, LLC. dba Bang 57 Ranch, Okeechobee, FL; PRT-48053A

The applicant requests a permit to authorize interstate and foreign commerce, export, and cull of excess barashingh (Rucervus duvauceli) from the captive herd maintained at their facility for the purpose of enhancement of the survival of the species. This notification covers activities to be conducted by the applicant over a 5-year period.

Applicant: University of Michigan, Museum of Zoology, Ann Arbor, MI; PRT-46480A

The applicant requests a permit to import biological samples from howler monkeys (Alouatta palliata mexicana, Alouatta pigra, and Alouatta palliata x Alouatta pigra hybrids), collected in the wild in Mexico, for the purpose of scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Dennis Campbell, Dora, AL; PRT-48113A

Applicant: Harry Sanders, Fairfield, PA; PRT-48527A

Applicant: Stephen Pasquan, Belvedere, CA; PRT-45900A

Applicant: James Kelly, Fort Smith, AR; PRT-47165A

B. Endangered Marine Mammals and Marine Mammals

Applicant: Sea to Shore Alliance, Sarasota, FL; PRT-37808A

The applicant requests a permit to take, import, and export manatee specimens from West Indian manatees (Trichechus manatus) and West African manatees (Trichechus senegalensis) for the purpose of scientific research. Up to 50 T. manatus would be tagged and sampled and up to 2,000 animals would be subjected to harassment each year; samples from up to 50 live T. senegalensis and an unlimited number of samples from dead animals would be imported each year. This notification covers activities to be conducted by the applicant over a 5-year period.

Applicant: Red Rock Films, Chevy Chase, MD; PRT-48293A

The applicant requests a permit to photograph polar bears (Ursus maritimus) on North Slope, Alaska, for commercial and educational purposes. This notification covers activities to be conducted by the applicant over a 1-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2011-20233 Filed 8-8-11; 8:45 am]

BILLING CODE 4310-55-P